Memorandum of March 28, 2008

Assignment of Functions Under Section 1821(c) of the Implementing Recommendations of the 9/11 Commission Act of 2007

Memorandum for the Secretary of State

By virtue of the authority vested in me as President by the Constitution and the laws of the United States, including section 301 of title 3, United States Code, I hereby assign to you the functions of the President under section 1821(c) of the Implementing Recommendations of the 9/11 Commission Act of 2007 (Public Law 110-53).

In the performance of your responsibility under this memorandum, you shall, as appropriate, consult the heads of other departments and agencies.

You are authorized and directed to publish this memorandum in the Federal Register.

THE WHITE HOUSE,

Washington, March 28, 2008.

[FR Doc. 08-1125

Filed 4-10-08; 8:58 am]

Billing code 4710-10-P